NUCLEAR REGULATORY COMMISSION

[Docket Nos. 52-034 and 52-035]

Luminant Generation Company, LLC. Acceptance for Docketing of an Application for Combined License for Comanche Peak Nuclear Power Plant, Units 3 and 4

By letter dated September 19, 2008, as supplemented by letter(s) dated November 4, 5, 6, and 10, 2008, Luminant Generation Company LLC (Luminant) submitted an application to the U.S. Nuclear Regulatory Commission (NRC) for a combined license (COL) for two United States—Advanced Pressurized Water Reactors (US-APWR) in accordance with the requirements contained in 10 CFR Part 52, “Licenses, Certifications and Approvals for Nuclear Power Plants.” These reactors will be identified as Comanche Peak Nuclear Power Plant, Units 3 and 4 and are to be located at the existing Comanche Peak site in Somervell County, Texas. A notice of receipt and availability of this application was previously published in the Federal Register (73 FR 66276) on November 7, 2008.

The NRC staff has determined that Luminant has submitted information in accordance with 10 CFR Part 2, “Rules of Practice for Domestic Licensing Proceedings and Issuance of Orders,” and 10 CFR Part 52 that is acceptable for docketing. The Docket Numbers established for Units 3 and 4 are 52-034 and 52-035, respectively.

The NRC staff will perform a detailed technical review of the application. Docketing of the application does not preclude the NRC from requesting additional information from the applicant as the review proceeds, nor does it predict whether the Commission will grant or deny the application.

The Commission will conduct a hearing in accordance with Subpart L, “Informal Hearing Procedures for NRC Adjudications,” of 10 CFR Part 2. The notice of hearing and opportunity to petition for leave to intervene will be published at a later date in the Federal Register. The Commission will receive a report on the COL application from the Advisory Committee on Reactor Safeguards in accordance with 10 CFR 52.87, “Referral to the Advisory Committee on Reactor Safeguards (ACRS).” If the Commission finds that the COL application meets the applicable standards of the Atomic Energy Act and the Commission's regulations and that required notifications to other agencies and bodies have been made, the Commission will issue a COL. The COL will contain conditions and limitations that the Commission finds appropriate and necessary.

In accordance with 10 CFR Part 51, the Commission will also prepare an environmental impact statement for the proposed action. Pursuant to 10 CFR 51.26, and as part of the environmental scoping process, the staff intends to hold a public scoping meeting. Detailed information regarding this meeting will be included in a future Federal Register notice.

Documents may be examined, and/or copied for a fee, at the NRC's Public Document Room (PDR), located at One White Flint North, Public File Area O1 F21, 11555 Rockville Pike (first floor), Rockville, Maryland, and will be accessible electronically through the Agencywide Documents Access and Management System (ADAMS) Public Electronic Reading Room link at the NRC Web site http://www.nrc.gov/reading-rm/adams.html. The application is also available at http://www.nrc.gov/reactors/new-reactors/col/comanche-peak.html. Persons who do not have access to ADAMS or who encounter problems in accessing documents located in ADAMS should contact the NRC PDR Reference staff by telephone at 1-800-397-4209, 301-415-4737, or via e-mail to pdr@nrc.gov.

Dated at Rockville, Maryland this 2nd day of December 2008.
For the Nuclear Regulatory Commission.
Stephen Raul Monarque,
Project Manager, US-APWR Projects Branch, Division of New Reactor Licensing, Office of New Reactors.

[FR Doc. E8-29184 Filed 12-9-08; 8:45 am]

BILLING CODE 7590-01-P